DEPARTMENT OF AGRICULTURE

Rural Business-Cooperative Service

[Docket #: RBS-21-BUSINESS-0039]

Notice of Solicitation of Applications for the Rural Innovation Stronger Economy (RISE) Grant Program for Fiscal Year 2022

AGENCY: Rural Business-Cooperative Service, USDA.

ACTION: Notice of solicitation of applications.

SUMMARY: The Rural Business-Cooperative Service (Agency), an agency of the United States Department of Agriculture (USDA), invites applications under the Rural Innovation Stronger Economy (RISE) program for fiscal year (FY) 2022, subject to the availability of funding. This notice is being issued in order to allow applicants sufficient time to leverage financing, prepare and submit their applications, and give the Agency time to process applications within FY 2022. Selected applicants will use Agency grant funds to provide financial assistance in support of innovation centers and job accelerator programs that improve the ability of distressed rural communities to create high wage jobs, accelerate the formation of new businesses, and help rural communities identify and maximize local assets. An announcement will be made on the Agency website: https://www.rd.usda.gov/newsroom/notices-solicitation-applications-nosas regarding any amount received in the FY 22 appropriations.

DATES: Completed applications must be submitted electronically by no later than 11:59 p.m. Eastern Standard Time, April 19, 2022, through Grants.gov, to be eligible for grant funding. Please review the Grants.gov website at https://grants.gov/applicants/organization_registration.jsp for instructions on the process of registering your organization as soon as possible to ensure that you are able to meet the electronic application deadline. The Agency will not consider any application(s) received after the deadline and that are not submitted through Grants.gov. Potential applicants may submit a concept proposal for review by the Agency to SM.USDA-RD.RISE@usda.gov no later than February 18, 2022 in compliance with 7 CFR 4284.1115(a). The application and Concept Proposal deadline dates and time are firm.

ADDRESSES: Entities wishing to apply for a RISE grant, or to submit a Concept Proposal for their project, may download the application documents and requirements delineated in this notice from https://www.rd.usda.gov/programs-services/business-programs/rural-innovation-stronger-economy-rise-grants. Information for the submission of an electronic application may be found at: https://www.Grants.gov. Concept Proposals containing elements outlined in Section D.2.(b) of this Notice must be submitted to SM.RISE-RD.RISE@usda.gov.

FOR FURTHER INFORMATION CONTACT: Will Dodson, Program Management Division, Rural Business-Cooperative Service, United States Department of Agriculture, 1400 Independence Avenue SW, Mail Stop-3226, Room 5160-South, Washington, DC 20250-3226, (202) 720-1400 or email: SM.USDA-RD.RISE@usda.gov.

SUPPLEMENTARY INFORMATION: The Agency encourages applicants to consider projects that will advance the following key priorities (more details available at https://www.rd.usda.gov/priority-points):

—Assisting rural communities to recover economically from the impacts of the COVID-19 pandemic, particularly disadvantaged communities;

—Ensuring that all rural residents have equitable access to Rural Development (RD) programs and benefits from RD funded projects; and

—Reducing climate pollution and increasing resilience to the impacts of climate change through economic support to rural communities.

Priority will also be given to projects that will leverage next generation gigabit broadband service to promote entrepreneurship and entities based in geographical areas with established agriculture and technology sectors which are focused on the development of precision and autonomous agriculture technologies as a way to strengthen rural economies and create jobs.

Overview

Federal Agency: Rural Business-Cooperative Service.

Funding Opportunity Title: Rural Innovation Stronger Economy Grant Program.

Announcement Type: Initial Notice.

Assistance Listing: 10.755.

Funding Opportunity Number (grants.gov): RD-RBS-22-01-RISE.

Dates: Electronic applications must be received and accepted by http://www.grants.gov no later than 11:59 Eastern Standard Time, April 19, 2022, or they will not be considered for funding.

Potential applicants may submit a concept proposal for review by the Agency to SM.USDA-RD.RISE@usda.gov no later than February 18, 2022 in compliance with 7 CFR 4294.1115(a). Submission of a concept proposal is not an application for program funds. Administrative: To focus investments in areas resulting in the greatest opportunity for growth in prosperity, the Agency encourages applications that serve the smallest communities with the lowest incomes, with an emphasis on areas where at least 20 percent of the population is living in poverty, according to the American Community Survey data by census tracts.

The Agency encourages energy communities to utilize the RISE program to support workforce development; identify and maximize local assets; spur job creation; and connect to regional opportunities, networks, and industry clusters.

Hemp related projects: Please note that no assistance or funding from this grant can be provided to a hemp producer unless they have a valid license issued from an approved State, Tribal or Federal plan as defined by the Agriculture Improvement Act of 2018, Public Law 115-334. Verification of valid hemp licenses will occur at the time of award.

The Agency will not solicit or consider new scoring or eligibility information that is submitted after the application deadline. The Agency reserves the right to contact applicants to seek clarification on materials contained in the submitted application. See the Application Template for a full discussion of each item. For requirements of completed grant applications, refer to Section D of this document.

A. Program Description

1. Purpose of the Program

The RISE program is a grant program to help struggling communities by funding job accelerators in low-income rural communities. The primary objective of the RISE program is to support jobs accelerator partnerships to improve the ability of distressed rural communities to create high wage jobs, accelerate the formation of new businesses through innovation centers, and help rural communities identify and maximize local assets.

2. Statutory Authority

The RISE program is a grant program authorized under section 379I of the Consolidated Farm and Rural Development Act (7 U.S.C. 2008w). The regulations governing this program are published at 7 CFR part 4284, subpart L.

3. Definitions

The terms you need to understand are defined and published at 7 CFR 4284.1103. In addition, the terms “rural” and “rural area,” are defined at section 379I of the Consolidated Farm and Rural Development Act (7 U.S.C. 1991(a)(13)) and will be used for this program. The term “you” referenced throughout this notice should be understood to mean “you” the applicant.

4. Application of Awards

Grants are awarded on a competitive basis. The Agency will review, evaluate, and score applications received in response to this notice based on the provisions found in 7 CFR part 4284, subpart L, and as indicated in this notice. The minimum award amount per grant is $500,000 and the maximum award amount per grant is $2,000,000, as authorized by Section 379I of the Consolidated Farm and Rural Development Act (7 U.S.C. 2008w). Grant funds may be used to pay for up to 80 percent of eligible project activity costs. Grant funds may be used to pay for costs directly related to the purchase or construction of an innovation center located in a low-income rural area; costs directly related to operations of an innovation center including purchase of equipment, office supplies, and administrative costs including salaries directly related to the project; costs directly associated with support programs to be carried out at or in direct partnership with job accelerators; reasonable and customary travel expenses directly related to job accelerators and at rates in compliance with 2 CFR 200.474; utilities, operating expenses of the innovation center and job accelerator programs and associated programs; and administrative costs of the grantee not exceeding 10% of the grant amount for the duration of the project.

B. Federal Award Information

Type of Award: Competitive Grant.

Fiscal Year Funds: FY 2022.

Available Funds: Anyone interested in submitting an application for funding under this Program is encouraged to consult the Rural Development Notices of Solicitation of Applications website at https://www.rd.usda.gov/newsroom/notices-solicitation-applications-nosas for the amount of available funds appropriated in FY 2022.

Minimum Award: $500,000.

Maximum Award: $2,000,000.

Due Date for Applications: April 19, 2022.

Due Date for Concept Proposals: February 18, 2022.

Anticipated Award Date: September 15, 2022.

Performance Period: September 15, 2022, through December 31, 2026.

Type of Assistance Instrument: Initial Solicitation Announcement.

C. Eligibility Information

1. Eligible Applicants

Applicants must meet all the following eligibility requirements. Applications that fail to meet any of these requirements by the application deadline will be deemed ineligible and will not be evaluated further. To be considered an eligible applicant, you must be a rural jobs accelerator partnership formed after December 20, 2018, and meet the eligibility criteria found in 7 CFR 4282.1112 to apply for this program. Individuals and individual entities are not an eligible applicant for the RISE program.

(i) The rural jobs accelerator partnership must have a lead applicant who is responsible for the administration of the grant proceeds and activities. A lead applicant will be the named applicant on Agency documents and must be one of the following entities:

(a) A district organization;

(b) An Indian Tribe, or a consortium of Indian Tribes;

(c) A state or a political subdivision of a state, including a special purpose unit of a State or local government engaged in economic development activities, or a consortium of political subdivisions;

(d) An institution of higher education (as defined in section 101 of the Higher Education Act of 1965 (20 U.S.C. 1001) or a consortium of institutions of higher education; or

(e) A public or private nonprofit organization.

(ii) Additional eligibility requirements you must meet are as follows:

(a) An applicant is not eligible if they have been debarred or suspended or otherwise excluded from or ineligible for participation in Federal assistance programs under Executive Order 12549, “Debarment and Suspension.” The Agency will check the System for Award Management (SAM) at the time of application and prior to funding any grant award to determine if the applicant has been debarred or suspended. In addition, an applicant will be considered ineligible for a grant due to an outstanding judgment obtained by the U.S. in a Federal Court (other than U.S. Tax Court), is delinquent on the payment of Federal income taxes, or is delinquent on Federal debt. See 7 CFR 4284.6. The applicant must certify as part of the application that they do not have an outstanding judgment against them. The Agency will check the Do Not Pay System at the time of application and also prior to funding any grant award to verify this information.

(b) Any corporation that has been convicted of a felony criminal violation under any Federal law within the past 24 months or that has any unpaid Federal tax liability that has been assessed, for which all judicial and administrative remedies have been exhausted or have lapsed, and that is not being paid in a timely manner pursuant to an agreement with the authority responsible for collecting the tax liability, is not eligible for financial assistance provided with funds appropriated by an Appropriations Act for FY 2022, unless a Federal agency has considered suspension or debarment of the corporation and has made a determination that this further action is not necessary to protect the interests of the Government.

(c) Applications will be deemed ineligible if the application includes any funding restrictions identified under Section D.6(a) and (b) of this notice. Inclusion of funding restrictions outlined in Section D.6(a) and (b) of this notice precludes the Agency from making a federal award.

(d) Applications will be deemed ineligible if the application is not complete in accordance with the requirements stated in Section C.3.

(e) The Lead Applicant must be registered in the System for Award Management (SAM) prior to submitting an application. The Lead Applicant must also maintain an active SAM registration with current information at all times during which it has an active Federal award or an application under consideration by the Agency. All other restrictions in this notice will apply.

2. Cost Sharing or Matching

Your matching funds requirement is 20 percent of the eligible project costs of any activity carried out using RISE grant funds. Matching funds must be available throughout the grant term and applied individually to each RISE activity. Grant funds may only be used for up to 80 percent of an eligible RISE activity. Additional information on matching funds is found at 7 CFR 4284.1114. When you calculate your matching funds requirement, please round up or down to whole dollars as appropriate. To calculate your matching funds requirement, multiply your total eligible project costs of each eligible RISE activity by 0.20. The amount of matching funds required for your RISE activities is then added together to attain the total amount of non-Federal matching funds required for your project. Applications that only provide matching funds equal to 20 percent of the grant amount will be deemed ineligible due to an insufficient matching funds amount.

You must provide a written commitment of match funds to verify that all matching funds are available during the grant period and provide this documentation with your application in accordance with requirements identified in Section D.2 of this notice. If you are awarded a grant, additional verification documentation may be required to confirm the availability of matching funds for the duration of the grant term.

Matching funds must meet all of the following:

(a) They must be spent on eligible expenses during the grant period.

(b) They must be from eligible sources.

(c) They must be spent in advance or as a pro-rata portion of grant funds being spent.

(d) They must be provided by either the applicant or a third party in the form of cash or an in-kind contribution.

(e) They cannot include other Federal grants unless provided by authorizing legislation.

(f) They cannot include cash or in-kind contributions donated outside of the grant period.

(g) They cannot include over-valued, in-kind contributions.

(h) They cannot include any project costs that are ineligible under the RISE program.

(i) They cannot include any project costs that are restricted or unallowable under 2 CFR part 200, subpart E, and the Federal Acquisition Regulation (for-profits) or successor regulation.

(j) They can include reasonable and customary travel expenses for staff delivering the RISE program if you have established written policies explaining how these costs are normally reimbursed, including rates. You must include an explanation of this policy in your application or the contributions will not be considered as eligible matching funds.

(k) You must be able to document and verify the number of hours worked and the value associated with any in-kind contribution being used to meet a matching funds requirement.

(l) In-kind contributions provided by individuals, businesses, or cooperatives which are being assisted by you cannot be provided for the direct benefit of their own projects as the Agency considers this to be a conflict of interest or the appearance of a conflict of interest.

3. Other Eligibility Requirements

(a) Completeness

Your application will not be considered for funding if it fails to meet an eligibility criterion by the time of application deadline or does not provide sufficient information to determine eligibility and scoring. You must include all the forms and proposal elements as discussed in the regulation and as clarified further in this notice in one package. Incomplete applications will not be reviewed by the Agency. For more information on what is required for a complete application, see 7 CFR 4284.1115.

(b) Purpose Eligibility

Your application must propose the establishment of an innovation center and/or costs directly related to operations of an innovation center and/or costs directly associated with support of programs to be carried out at or in direct partnership with job accelerators as outlined in 7 CFR 4284.1113. The Applicant project outcome must accelerate the formation of new businesses with high-growth potential, improve the ability of rural businesses and distressed rural communities to create high-wage jobs, and strengthen rural regional economies. You must use project funds, including grant and matching funds, for eligible purposes only as outlined in 7 CFR 4284.1114.

(c) Project Eligibility

All project activities must be for the benefit of communities, industries and residents located in a rural area, as defined. The Applicant is cautioned against taking any actions or incurring any obligations prior to the Agency completing the environmental review that would either limit the range of alternatives to be considered or that would have an adverse effect on the environment, such as the initiation of construction. If the Applicant takes any such actions or incurs any such obligations, it could result in project ineligibility. Projects involving the construction of an innovation center as an eligible purpose are subject to the environmental requirements of 7 CFR part 1970, as well as the applicable design and construction requirements of Rural Development and the adopted codes of the jurisdiction.

(d) Multiple Application Eligibility

Only one application can be submitted per applicant, who is defined as a lead applicant as found in 7 CFR 4282.1112(b). If two applications are submitted by the same lead applicant, both applications will be deemed ineligible for funding.

(e) Grant Period

Your application must include a cost and performance plan for no more than a four-year grant period, or it will not be considered for funding. The grant period should begin no earlier than September 15, 2022, and no later than January 1, 2023. Applications that request funds for a project with a performance period ending after December 31, 2026, will not be considered for funding. Projects must be completed within a four-year timeframe. Prior approval is needed from the Agency if you are awarded a grant and desire the grant period to begin earlier or later than previously discussed or approved.

The Agency may approve requests to extend the grant period for up to an additional two-year period at its discretion. Further guidance on grant period extensions will be provided in the award document.

D. Application and Submission Information

1. Application Information

For further information and program materials, including an Application Template, you should contact the Rural Development National Office and/or review the program website at https://www.rd.usda.gov/programs-services/business-programs/rural-innovation-stronger-economy-rise-grants.

2. Content and Form of Application Submission

Applicants may only submit one RISE grant application each Federal Fiscal Year. You must submit your application electronically through Grants.gov. Applications submitted to the Agency in any format outside of Grants.gov will not be considered for funding. You are encouraged, but not required to utilize an optional-use application template found at https://www.rd.usda.gov/programs-services/business-programs/rural-innovation-stronger-economy-rise-grants. The Application Template provides specific, detailed instructions for each item of a complete application. The Agency emphasizes the importance of including every item and strongly encourages applicants to follow the instructions carefully, using the examples and illustrations in the Application Template.

(a) Electronic Submission

You can locate the Grants.gov downloadable application package for this program by using a keyword, the program name, or the Catalog of Federal Domestic Assistance Number 10.755 for this program.

When you enter the Grants.gov website, you will find information about applying electronically through the site, as well as the hours of operation. We strongly recommend that you do not wait until the application deadline date to begin the application process through Grants.gov. Applicants are also encouraged to review all application requirements of 7 CFR 4284.1115 prior to preparing or submitting their application.

There are no specific limitations on the number of pages or other formatting requirements of an application, but a complete application should be in a narrative form using a minimum of 11-point font and will at a minimum include all information required in a concept proposal as stated in 7 CFR 4284.1115(a). The narrative must clearly describe the jobs accelerator partnership, characteristics of the targeted region and targeted industry cluster(s), and how the project meets the RISE program initiatives.

(b) Concept Proposal

A potential applicant for RISE is strongly encouraged to submit a concept proposal for review by the Agency not less than 60 days in advance of the application submittal deadline. The concept proposal should be in a narrative format up to 10 pages in length using a minimum of 11-point font and submitted electronically by email to: SM.RISE-RD.RISE@usda.gov. The concept proposal must include all items stated in 7 CFR 4284.1115(a). The concept proposal will be evaluated by the Agency and an encouragement or discouragement letter will be issued to the potential applicant. If a discouragement letter is issued, it will detail any weaknesses evaluated in the Agency's review, though a complete application may still be submitted prior to the application deadline. Applicants who submit a concept proposal to the Agency will not need to resubmit the same information with their application. However, submission of a concept proposal is not an application for program funds.

3. Dun and Bradstreet Data Universal Numbering System (or Unique Entity Identifier) and System for Award Management

All applicants must have a Dun and Bradstreet Data Universal Numbering System (DUNS) number which can be obtained at no cost via a toll-free request line at (866) 705-5711 or at https://fedgov.dnb.com/webform.

(i) Each applicant applying for loan or grant funds must (A) be registered in the System for Award Management (SAM) before submitting its application and (B) provide a valid unique entity identifier in its application, unless determined exempt under 2 CFR 25.110.

(ii) Applicant must maintain an active SAM registration, with current, accurate and complete information, at all times during which it has an active Federal award or an application under consideration by a Federal awarding agency.

(iii) Applicant must ensure they complete the Financial Assistance General Certifications and Representations in SAM.

(iv) The Agency will not make an award until the applicant has complied with all applicable DUNS (unique entity identifier) and SAM requirements. If an applicant has not fully complied with the requirements by the time the Agency is ready to make an award, the Agency may determine that the applicant is not qualified to receive a Federal award and use that determination as a basis for making a Federal award to another applicant.

4. Submission Date and Time

Explanation of Deadline: Completed applications must be submitted electronically through Grants.gov by no later than 11:59 p.m. Eastern Time, April 19, 2022, to be eligible for grant funding. Please review the Grants.gov website for instructions on the process of registering your organization as soon as possible to ensure that you can meet the electronic application deadline. Grants.gov will not accept applications submitted after the deadline. Please see https://grants.gov/applicants/organization_registration.jsp for instructions on the process of registering your organization as soon as possible to ensure that you can meet the electronic application deadline. Grants.gov will not accept applications submitted after the deadline.

Potential applicants may electronically submit a concept proposal for review by the Agency to: SM.RISE-RD.RISE@usda.gov no later than February 18, 2022 in compliance with 7 CFR 4294.1115(a) and as stated in Section D, 2(b) of this Notice. Submission of a concept proposal is not an application for program funds.

5. Intergovernmental Review of Applications

Executive Order (E.O.) 12372, “Intergovernmental Review of Federal Programs,” does not apply to this program.

6. Funding Restrictions

(a) Project funds, including grant and matching funds, cannot be used for ineligible grant purposes as stated in 7 CFR 4284.1114, 2 CFR part 200, subpart E, “Cost Principles,” and the most current Federal Acquisition Regulation (for-profits) or successor regulations.

(b) In addition, your application will not be considered for funding if it does any of the following:

(i) Focuses assistance on only one business;

(ii) Requests less than the minimum grant amount or more than the maximum grant amount;

(iii) The project budget includes administrative costs in excess of 10 percent of the grant amount; or

(iv) Grant funds will be passed through to a member of the partnership in the form of lease payments or other activities with a conflict of interest or appearance thereof.

7. Other Submission Requirements

(a) You should not submit your application in more than one format or in more than one submission. You must submit your application electronically. Note that we cannot accept applications through mail or courier delivery, in-person delivery, email, or fax. To submit an application electronically, you must follow the instruction for this funding announcement at http://www.grants.gov. A password is not required to access the website.

(b) National Environmental Policy Act

All recipients under this notice are subject to the requirements of 7 CFR part 1970. However, technical assistance awards under this notice are classified as a Categorical Exclusion according to 7 CFR 1970.53(b), and usually do not require any additional documentation.

The Agency will review each grant application to determine its compliance with 7 CFR part 1970. The applicant may be asked to provide additional information or documentation to assist the Agency with this determination.

(c) Civil Rights Compliance Requirements

All grants made under this notice are subject to Title VI of the Civil Rights Act of 1964 as required by the USDA (7 CFR part 15, subpart A), and Section 504 of the Rehabilitation Act of 1973.

E. Application Review Information

1. Criteria

Eligible applicant partnerships formed after December 20, 2018, will use Agency grant funds to provide financial assistance in support of innovation centers and job accelerator programs that improve the ability of distressed rural communities to create high-wage jobs, accelerate the formation of new businesses, and help rural communities identify and maximize local assets.

2. Review and Selection Process

The National Office will review applications to determine if they are eligible for assistance based on requirements in 7 CFR part 4284, subpart L, this notice, and other applicable Federal regulations. If determined eligible, your application will be scored by a panel of USDA employees in accordance with the point allocation and scoring criteria published at 7 CFR 4284.1117. Applications will be funded in rank order from highest to lowest score until the available funding has been exhausted. Applications that cannot be fully funded may be offered partial funding at the Agency's discretion.

If your application is evaluated as an eligible project, but not funded, it will not be carried forward into the next competition.

F. Federal Award Administration Information

1. Federal Award Notices

If you are selected for funding, you will receive a signed notice of Federal award by postal or electronic mail from the USDA Rural Development State Office where your application was submitted, containing instructions and requirements necessary to proceed with execution and performance of the award. You must comply with all applicable statutes, regulations, and notice requirements before the grant award will be funded.

If you are not selected for funding, you will be notified in writing via postal or electronic mail and informed of any review and appeal rights. See 7 CFR part 11 for USDA National Appeals Division procedures. We anticipate that there will be no available funds for successful appellants once all FY 2022 funds, if available, are awarded and obligated.

2. Administrative and National Policy Requirements

Additional requirements that apply to grantees selected for this program can be found in 7 CFR part 4284, subpart L; the Grants and Agreements regulations of the Department of Agriculture codified in 2 CFR parts 180, 400, 415, 417, 418, 421; 2 CFR parts 25 and 170; and 48 CFR 31.2, and successor regulations to these parts.

In addition, all recipients of Federal financial assistance are required to report information about first-tier subawards and executive compensation (see 2 CFR part 170). You will be required to have the necessary processes and systems in place to comply with the Federal Funding Accountability and Transparency Act of 2006 (Pub. L. 109-282) reporting requirements (see 2 CFR 170.200(b), unless you are exempt under 2 CFR 170.110(b)).

The following additional requirements apply to grantees selected for awards within this program:

(a) Execution of an Agency-approved financial assistance agreement;

(b) Acceptance of a written letter of conditions; and submission of the following Agency forms:

(1) Form RD 1940-1, “Request for Obligation of Funds.”

(2) Form RD 1942-46, “Letter of Intent to Meet Conditions.”

(3) Form RD 400-1 for construction projects.

3. Reporting

After grant approval and through grant completion, you will be required to provide an SF-425, “Federal Financial Report,” and a performance report on a semiannual basis (due 30 working days after end of the semiannual period) for the first two years, and then annually thereafter, with the first report submitted no later than six months after receiving a grant under this section. The project performance reports shall include all items listed in paragraph (h)(2) under 7 CFR 4284.1120.

G. Agency Contacts

If you have questions about this notice, please contact the Rural Development National Office by email at: SM.USDA-RD.RISE@usda.gov. Program guidance as well as application and matching funds templates may be obtained at: https://www.rd.usda.gov/programs-services/business-programs/rural-innovation-stronger-economy-rise-grants. If you want to submit an electronic application, follow the instructions for the RISE funding announcement located at http://www.grants.gov. You may also contact the National Office Program Management Division at USDA-RD.RISE@usda.gov.

H. Other Information

1. Paperwork Reduction Act. In accordance with the Paperwork Reduction Act of 1995, the information collection requirements associated with the programs, as covered in this notice, have been approved by the Office of Management and Budget (OMB) under OMB Control Number 0570-0075.

2. National Environmental Policy Act. All recipients under this Notice are subject to the requirements of 7 CFR part 1970.

3. Nondiscrimination Statement

In accordance with Federal civil rights law and USDA civil rights regulations and policies, the USDA, its Mission Areas, agencies, staff offices, employees and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language, etc.) should contact the responsible Mission Area, agency or staff office, the USDA TARGET Center, at (202) 720-2600 (voice and TTY) or contact USDA through the Federal Relay Service at (800) 877-8339.

To file a program discrimination complaint, a complainant should complete a Form AD-3027, USDA Program Discrimination Complaint Form, which can be obtained online at: https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: United States Department of Agriculture, Office of the Assistant Secretary for Civil Rights, 1400 Independence Avenue SW, Washington, DC 20250-9410;

(2) Fax: (833) 256-1665 or (202) 690-7442; or

(3) Email: program.intake@usda.gov.

USDA is an equal opportunity provider, employer, and lender.

Karama Neal,
Administrator, Rural Business-Cooperative Service.

[FR Doc. 2021-27447 Filed 12-17-21; 8:45 am]

BILLING CODE 3410-XY-P